INTERNATIONAL TRADE COMMISSION

Certain Pipe and Tube From Argentina, Brazil, Canada, India, Korea, Mexico, Singapore, Taiwan, Thailand, Turkey, and Venezuela ¹

Determinations

On the basis of the record ² developed in the subject five-year reviews, the United States International Trade Commission determines,³ pursuant to section 751(c) of the Tariff Act of 1930 (19 U.S.C. 1675(c)) (the Act), that revocation of the countervailing duty order on circular welded carbon steel pipe and tube from Turkey and revocation of the antidumping duty orders on circular welded carbon steel pipe and tube from Brazil, India, Korea, Mexico, Taiwan, Thailand, and Turkey would be likely to lead to continuation or recurrence of material injury to an industry in the United States within a reasonably foreseeable time. The Commission further determines ⁴ that revocation of the antidumping duty order on circular welded carbon steel pipe and tube from Venezuela would not be likely to lead to continuation or recurrence of material injury to an industry in the United States within a reasonably foreseeable time.

¹ The products and investigation numbers for the various countries are: Argentina: light-walled rectangular tube (731-TA-409); Brazil: circular welded nonalloy steel pipe (731-TA-532); Canada: oil country tubular goods (731-TA-276); India: welded carbon steel pipe and tube (731-TA-271); Korea: circular welded nonalloy steel pipe (731-TA-533); Mexico: circular welded nonalloy steel pipe (731-TA-534); Singapore: small diameter standard and rectangular pipe and tube (731-TA-296); Taiwan: small diameter carbon steel pipe and tube (731-TA-132), oil country tubular goods (731-TA-277), light-walled rectangular tube (731-TA-410), and circular welded nonalloy steel pipe (731-TA-536); Turkey: welded carbon steel pipe and tube (701-TA-253 and 731-TA-273); Thailand: welded carbon steel pipe and tube (731-TA-252); and Venezuela: circular welded nonalloy steel pipe (731-TA-537).

² The record is defined in § 207.2(f) of the Commission's Rules of Practice and Procedure (19 CFR 207.2(f)).

³ Vice Chairman Deanna Tanner Okun and Commissioner Jennifer A. Hillman dissenting with respect to Mexico; Commissioner Thelma J. Askey dissenting with respect to India, Mexico, and Turkey.

⁴ Commissioner Lynn M. Bragg dissenting.

The Commission also determines ⁵ that revocation of the antidumping duty orders on light-walled rectangular carbon steel pipes and tubes from Argentina and Taiwan would be likely to lead to continuation or recurrence of material injury to an industry in the United States within a reasonably foreseeable time. The Commission further determines ⁶ that revocation of the antidumping duty order on light-walled rectangular carbon steel pipe and tube from Singapore would not be likely to lead to continuation or recurrence of material injury to an industry in the United States within a reasonably foreseeable time.

⁵ Commissioner Thelma J. Askey dissenting.

⁶ Commissioner Lynn M. Bragg dissenting.

The Commission additionally determines ⁷ that revocation of the antidumping duty orders on oil country tubular goods (OCTG) other than drill pipe and drill pipe from Canada and Taiwan would not be likely to lead to continuation or recurrence of material injury to the respective domestic industries in the United States within a reasonably foreseeable time.

⁷ Commissioner Lynn M. Bragg dissenting with respect to OCTG other than drill pipe from Canada and Taiwan and drill pipe from Canada.

Background

The Commission instituted these reviews on May 3, 1999 (64 FR 23679) and determined on August 5, 1999, that it would conduct full reviews (64 FR 45276, August 19, 1999). Notice of the scheduling of the Commission's reviews and of a public hearing to be held in connection therewith was given by posting copies of the notice in the Office of the Secretary, U.S. International Trade Commission, Washington, DC, and by publishing the notice in the Federal Register on October 6, 1999 (64 FR 54354). The hearing was held in Washington, DC, on March 9, 2000, and all persons who requested the opportunity were permitted to appear in person or by counsel.

The Commission transmitted its determinations in these reviews to the Secretary of Commerce on July 26, 2000. The views of the Commission are contained in USITC Publication 3316 (July 2000), entitled Certain Pipe and Tube from Argentina, Brazil, Canada, India, Korea, Mexico, Singapore, Taiwan, Thailand, Turkey, and Venezuela: Investigations Nos. 701-TA-253 (Review) and 731-TA-132, 252, 271, 273, 276, 277, 296, 409, 410, 532-534, 536, and 537 (Review)).

By order of the Commission.
Issued: August 1, 2000.
Donna R. Koehnke,
Secretary.

[FR Doc. 00-20110 Filed 8-8-00; 8:45 am]

BILLING CODE 7020-02-P